DEPARTMENT OF HEALTH AND HUMAN SERVICES

Food and Drug Administration

21 CFR Part 111

[Docket No. 95N-0304]

RIN 0910-AC51

Dietary Supplements Containing Ephedrine Alkaloids; Reopening of the Comment Period; Correction

AGENCY: Food and Drug Administration, HHS.

ACTION: Proposed rule; correction.

SUMMARY: The Food and Drug Administration is correcting a proposed rule that appeared in the Federal Register of March 5, 2003 (68 FR 10417). The document reopened for 30 days the comment period for a proposed rule entitled “Dietary Supplements Containing Ephedrine Alkaloids” (June 4, 1997, 62 FR 30678). The former document was published with an inadvertent error. This document corrects that error.

FOR FURTHER INFORMATION CONTACT: Joyce Strong, Office of Policy and Planning (HF-27), Food and Drug Administration, 5600 Fishers Lane, Rockville, MD 20857, 301-827-7010.

SUPPLEMENTARY INFORMATION: In FR Doc. 03-5072, appearing on page 10417 in the Federal Register of Wednesday, March 5, 2003, the following correction is made:

1. On page 10420, in the second column, reference 7 is corrected to read:

7. Shekelle, P., S. Morton, M. Maglione, et al., “Ephedra and Ephedrine for Weight Loss and Athletic Performance Enhancement: Clinical Efficacy and Side Effects,” Evidence Report/Technology Assessment No. 76 (Prepared by Southern California Evidence-based Practice Center, RAND, under Contract No. 290-97-0001, Task Order No. 9), Agency for Healthcare Research and Quality, February 2003, Publication No. 03-E022, Rockville, MD.

Dated: March 17, 2003.
William K. Hubbard,
Associate Commissioner for Policy and Planning.

[FR Doc. 03-6963 Filed 3-24-03; 8:45 am]

BILLING CODE 4160-01-S